DEPARTMENT OF LABOR

Employment and Training Administration

TA-W-62,273; TA-W-62,273A]

Delphi Corporation, Automotive Holdings Group Division, Including On-Site Leased Workers From Bartech, Acro, Securitas Security Services, and TAC Automotive, Dayton, OH; Delphi Corporation, Disc Pads Division, Including On-Site Leased Workers From Bartech, Acro, Securitas Security Services, and TAC Automotive, Dayton, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 21, 2007, applicable to workers of Delphi Corporation, Automotive Holdings Group Division, including on-site leased workers from Bartech and Acro, Dayton, Ohio, and Delphi Corporation, Disc Pads Division, including on-site leased workers from Bartech and Acro, Dayton, Ohio. The notice was published in the Federal Register on January 16, 2008 (73 FR 2943). The certification was amended on October 30, 2008, to include on-site workers leased from Securitas Security Services. The notice of amendment was published in the Federal Register on November 7, 2008 (73 FR 66272).

At the request of petitioners, the Department reviewed the certification for workers of the subject firm. The workers of the Automotive Holdings Group Division produce mounts and the workers of the Disc Pads Division produce disc pads. New information shows that workers leased from TAC Automotive were employed on-site at the Dayton, Ohio location of Delphi Corporation, Automotive Holdings Group Division and the Disc Pads Division. The Department has determined that these workers were sufficiently under the control of the subject firm to be considered leased workers.

Based on these findings, the Department is amending this certification to include workers leased from TAC Automotive working on-site at the Automotive Holdings Group Division and the Disc Pads Division, Dayton, Ohio location of the subject firm.

The amended notice applicable to TA-W-62,273 and TA-W-62,273A are hereby issued as follows:

Workers engaged in employment related to the production of mounts at Delphi Corporation, Automotive Holdings Group Division, including on-site leased workers from Bartech, Acro, Securitas Security Services, and TAC Automotive, Dayton, Ohio (TA-62,273), and workers engaged in employment related to the production of disc pads at Delphi Corporation, Disc Pads Division, including on-site leased workers from Bartech, Acro, Securitas Security Services, and TAC Automotive, Dayton, Ohio (TA-W-62,273A), who became totally or partially separated from employment on or after October 8, 2006, through December 21, 2009, are eligible to apply for adjustment assistance under Section 223 of the Trade Act of 1974, and are also eligible to apply for alternative trade adjustment assistance under Section 246 of the Trade Act of 1974.

Signed at Washington, DC, this 13th day of January 2009.
Linda G. Poole,
Certifying Officer, Division of Trade Adjustment Assistance.

[FR Doc. E9-2134 Filed 1-30-09; 8:45 am]

BILLING CODE 4510-FN-P